DEPARTMENT OF HOMELAND SECURITY

Coast Guard

33 CFR Part 117

[CGD08-07-032]

Drawbridge Operation Regulations; Liberty Bayou, Slidell, LA

AGENCY: Coast Guard, DHS.

ACTION: Notice of temporary deviation from regulations; request for comments.

SUMMARY: The Commander, Eighth Coast Guard District, has issued a temporary deviation from the regulation governing the operation of the State Route 433 (S433) bridge across Liberty Bayou, mile 2.0, at Slidell, St. Tammany Parish, Louisiana. This deviation will test a change to the drawbridge operation schedule to determine whether a permanent change to the schedule is needed.

DATES: This deviation is effective from November 15, 2007 until May 13, 2008.

ADDRESSES: You may mail comments and related material to Commander (dpb), Eighth Coast Guard District, 500 Poydras Street, New Orleans, Louisiana 70130-3310. The Commander, Eighth Coast Guard District, Bridge Administration Branch maintains the public docket for this rulemaking. Comments and material received from the public, as well as documents indicated in this preamble as being available in the docket, will become part of this docket and will be available for inspection or copying at the Bridge Administration office between 7 a.m. and 3 p.m., Monday through Friday, except Federal holidays.

FOR FURTHER INFORMATION CONTACT: Phil Johnson, Bridge Administration Branch, telephone (504) 671-2128.

SUPPLEMENTARY INFORMATION:

Request for Comments

We encourage you to participate in evaluating this test schedule by submitting comments and related material. If you do so, please include your name and address, identify the docket number for this deviation CGD08-07-032, indicate the specific section of this document to which each comment applies, and give the reason for each comment. Please submit all comments and related material in an unbound format, no larger than 8½ by 11 inches, suitable for copying. If you would like to know they reached us, please enclose a stamped, self-addressed postcard or envelope. We will consider all comments and material received during the comment period. Comments must be received by January 14, 2008.

Background and Purpose

The Louisiana Department of Transportation and Development has requested that the operating regulation of the S433 pontoon span bridge, located on Liberty Bayou at mile 2.0 in Slidell, St. Tammany Parish, Louisiana, be changed in order to make more efficient use of operating resources. Currently, the draw of the S433 Bridge opens on signal, except that from 9 p.m. to 5 a.m. the draw opens on signal if at least 12 hours notice is given, as required by 33 CFR 117.469. The Coast Guard previously published a notice of proposed rulemaking [CGD08-06-10] on May 4, 2006 (86 FR 26290). The proposed rule would have changed the regulation governing the operation of the (S433) pontoon span bridge across Liberty Bayou, mile 2.0, at Slidell, St. Tammany Parish, Louisiana. The rule, as previously proposed, would have changed the notice required for an opening from 12 hours to 4 hours. A final rule for that proposed change was not published. Subsequently, the bridge owner has requested that the notice for an opening be changed so that the bridge will open on signal, except that from 7 p.m. to 7 a.m., the bridge will open on signal if at least 2 hours notice is given.

A Supplemental Notice of Proposed Rulemaking [CGD08-06-010], is being issued in conjunction with this Temporary Deviation to obtain public comments. The Coast Guard will evaluate public comments from this Test Deviation and the above referenced Supplemental Notice of Proposed Rulemaking to determine if a permanent special drawbridge operating regulation is warranted.

In accordance with 33 CFR 117.35(e), the drawbridge must return to its regular operating schedule immediately at the end of the designated time period. This deviation from the operating regulations is authorized under 33 CFR 117.35.

Dated: November 6, 2007.
David M. Frank,
Bridge Administrator.

[FR Doc. E7-22364 Filed 11-14-07; 8:45 am]

BILLING CODE 4910-15-P